FEDERAL COMMUNICATIONS COMMISSION

47 CFR Part 73

[DA 01-531, MM Docket No. 00-243, RM-9981]

Digital Television Broadcast Service; Orono, ME

AGENCY: Federal Communications Commission.

ACTION: Final rule.

SUMMARY: The Commission, at the request of Maine Public Broadcasting Corporation, licensee of noncommercial educational station WMEB-TV, substitutes DTV channel *9 for DTV channel *22 at Orono, Maine. See 65 FR 76207, December 6, 2000. DTV channel *9 can be allotted to Orono in compliance with the principle community coverage requirements of Section 73.625(a) at reference coordinates (44-42-13 N. and 69-04-47 W.) with a power of 15.0, HAAT of 375 meters and with a DTV service population of 448 thousand. Since Orono is located within 400 kilometers of the U.S.-Canadian border, concurrence by the Canadian government has been obtained for this allotment. With this action, this proceeding is terminated.

DATES: Effective April 20, 2001.

FOR FURTHER INFORMATION CONTACT: Pam Blumenthal, Mass Media Bureau, (202) 418-1600.

SUPPLEMENTARY INFORMATION: This is a synopsis of the Commission's Report and Order, MM Docket No. 00-243, adopted March 5, 2001, and released March 6, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Maine, is amended by removing DTV channel *22 and adding DTV channel *9 at Orono.

Federal Communications Commission.
Barbara A. Kreisman,
Chief, Video Services Division, Mass Media Bureau.

[FR Doc. 01-5728 Filed 3-7-01; 8:45 am]

BILLING CODE 6712-01-P